DEPARTMENT OF VETERANS AFFAIRS

[OMB Control No. 2900-0757]

Agency Information Collection Activity Under OMB Review: (Supportive Services for Veteran Families (SSVF) Program Application for Supportive Services Grant)

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before March 3, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0757” in any correspondence.

FOR FURTHER INFORMATION CONTACT: Brian McCarthy, Office of Regulatory and Administrative Affairs (10B4) Department of Veterans Affairs, 810 Vermont Avenue NW., Washington, DC 20420, (202) 461-6345 or email brian.mccarthy4@va.gov. Please refer to “OMB Control No. 2900-0757, Proposed Information Collection (Supportive Services for Veteran Families (SSVF) Program) Application For Supportive Services Grant).

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology. The 60-day Federal Register Notice published on Monday, November 28, 2016, Vol. 81, Pages 85693-85694.

Title: Supportive Services for Veteran Families (SSVF) Program.

a. Application for Supportive Services Grants VA Form 10-10072.

b. Participant Satisfaction Survey, VA Form 10-10072a.

c. Quarterly Grantee Performance Report, VA Form 10-10072b.

d. Renewal Application. VA Form 10-10072c.

e. Applicant Budget Template Excel Worksheet.

f. FY16 Financial Report.

g. Grantee Certification.

OMB Control Number: 2900-0757 (Supportive Services for Veteran Families (SSVF) Program).

Type of Review: Revision.

Abstract: The purpose of the Supportive Services for Veteran Families (SSVF) Program is to provide supportive services grants to private non-profit organizations and consumer cooperatives who will coordinate or provide supportive services to very low-income veteran families who are residing in permanent housing, are homeless and scheduled to become residents of permanent housing within a specified time period, or after exiting permanent housing, are seeking other housing that is responsive to such very low-income veteran family's needs and preferences.

An agency may not conduct or sponsor, and a person is not required to respond to a collection of information unless it displays a currently valid OMB control number.

Affected Public: Individuals or households.

Estimated Annual Burden: 25,505 hours.

Estimated Average Burden per Respondent: 62.5 minutes.

Frequency of Response: One-time.

Estimated Number of Respondents: 12,270.

By direction of the Secretary.
Cynthia Harvey-Pryor,
Department Clearance Officer, Office of Privacy and Records Management, Department of Veterans Affairs.

[FR Doc. 2017-02078 Filed 1-31-17; 8:45 am]

BILLING CODE 8320-01-P